DEPARTMENT OF ENERGY

Federal Energy Regulatory Commission

[Docket No. AD21-9-000]

The Office of Public Participation; Notice of Workshop and Request for Panelists

Take notice that the Federal Energy Regulatory Commission (Commission) will convene, in the above-referenced proceeding, a Commissioner-led workshop via webcast as part of an effort to establish the Office of Public Participation on April 16, 2021, from approximately 9:00 a.m. to 5:00 p.m. Eastern time.

The workshop will provide interested parties with the opportunity to provide input to the Commission on the creation of the Office of Public Participation. The Commission intends to establish and operate the Office of Public Participation to “coordinate assistance to the public with respect to authorities exercised by the Commission,” including assistance to those seeking to intervene in Commission proceedings, pursuant to section 319 of the Federal Power Act (FPA). 16 U.S.C. 825q-1. Congress directed the Commission to provide, by June 25, 2021, to the Committees on Appropriations of both Houses of Congress a report on the Commission's progress towards establishing the Office of Public Participation, including an organizational structure and budget for the office, beginning in fiscal year 2022.

The Commission plans to hear input on the following considerations in forming the Office of Public Participation, including: (1) The office's function and scope as authorized by section 319 of the FPA; (2) the office's organizational structure and approach, including the use of equity assessment tools; (3) participation by tribes, environmental justice communities, and other affected individuals and communities, including those who have not historically participated before the Commission; and (4) intervenor compensation. The Commission seeks nominations for stakeholder panelists to provide input about each of these areas of consideration at the workshop by March 10, 2020. Each nomination should indicate name, contact information, organizational affiliation, what issue area the proposed panelist would speak on, and suggested workshop topics to OPPWorkshopNominations@ferc.gov.

Supplemental notices will be issued prior to the workshop with further details regarding the agenda, panelists, meeting registration information, and electronic log-in information. The workshop will be open for the public to attend, and there is no fee for attendance. Information on the workshop will also be posted on the Calendar of Events on the Commission's website, www.ferc.gov, prior to the event.

The Commission also plans to separately convene several listening sessions to hear from stakeholders their recommendations on creating the Office of Public Participation. A supplemental notice will be issued prior to the listening sessions with session dates and additional details.

The workshop will be accessible under section 508 of the Rehabilitation Act of 1973. For accessibility accommodations, please send an email to accessibility@ferc.gov or call toll free 1-866-208-3372 (voice) or 202-502-8659 (TTY), or send a FAX to 202-208-2106 with the required accommodations.

For questions about the workshop, please contact Stacey Steep, Office of General Counsel, (202) 502-8148, OPPWorkshop@ferc.gov, and, for logistical issues, contact Sarah McKinley, (202) 502-8368, sarah.mckinley@ferc.gov.

Dated: February 22, 2021.
Kimberly D. Bose,
Secretary.

[FR Doc. 2021-04006 Filed 2-25-21; 8:45 am]

BILLING CODE 6717-01-P